DEPARTMENT OF COMMERCE

International Trade Administration

[C-475-819]

Certain Pasta From Italy: Amended Final Results of the Fourth Countervailing Duty Administrative Review

AGENCY: Import Administration, International Trade Administration, Department of Commerce.

ACTION: Amendment of final results of Countervailing Duty Administrative Review.

SUMMARY: On December 12, 2001, the Department of Commerce published in the Federal Register its final results of the fourth administrative review of the countervailing duty order on certain pasta from Italy for the period January 1 through December 31, 1999 (66 FR 64214). On December 10, 2001, we received a timely filed ministerial error allegation. Based on our analysis of this information, the Department of Commerce has revised the net subsidy rate for N. Puglisi & F. Industria Paste Alimentari S.p.A.

EFFECTIVE DATE: January 2, 2002.

FOR FURTHER INFORMATION CONTACT: Meg Weems or Craig Matney, AD/CVD Enforcement, Group I, Office 1, Import Administration, U.S. Department of Commerce, Room 1870, 14th Street and Constitution Avenue, NW., Washington, DC 20230; telephone (202) 482-2613 or 482-1778, respectively.

Corrections

N. Puglisi & F. Industria Paste Alimentari S.p.A. (“Puglisi”)

On December 10, 2001, respondent Puglisi timely filed a ministerial error allegation. Puglisi states that, with respect to a Law 64/86 industrial development loan (“IDL”), the Department of Commerce (“the Department”) failed to deduct loan guarantee payments from the gross loan subsidy received by Puglisi during the period of review, resulting in a clerical error. Puglisi further explains that the Department added the loan guarantee payments to the “total amount of interest and fee payments made” and then again added the loan guarantee payments to the “total benchmark interest and fees,” thereby nullifying the deduction of these fees from the countervailable subsidy. Puglisi suggests that the clerical error be corrected by either not including the annual fee payments in the “benchmark interest and fee amounts,” or by deducting the annual fee payments from the gross countervailable subsidy for the loan. The petitioner has not commented on this ministerial error allegation.

We agree with Puglisi that the Department miscalculated the duty rate for one of Puglisi's Law 64/86 IDLs by inadvertently nullifying the deduction of the loan guarantee fees from the countervailable subsidy. We have corrected this error for the amended final results by deducting the annual fee payments from the “total interest and fee payments made,” while excluding them from the “benchmark interest and fee amounts.”

In the final results, we specified a total duty rate of 7.18 percent for Puglisi. In calculating this rate, we erroneously calculated the subsidy rate for Puglisi's Law 64/86 IDL to be 0.14 percent. The Law 64/86 IDL subsidy rate should have been 0.08 percent.

Amended Final Results of Review

Pursuant to the Department's regulations at 19 CFR 351.224(e), we correct the ad valorem rate for Puglisi to be 7.12 percent.

The Department will instruct the Customs Service (“Customs”) to assess countervailing duties on all appropriate entries on or after January 1, 1999, and on or before December 31, 1999. The Department will issue liquidation instructions directly to Customs. The amended cash deposit requirements are effective for all shipments of the subject merchandise entered, or withdrawn from warehouse, for consumption on or after the date of publication of this notice and shall remain in effect until publication of the final results of the next administrative review.

This amendment to the final results of the countervailing duty administrative review is in accordance with section 751(a)(1) of the Tariff Act, as amended, (19 U.S.C. 1675(a)(1), 19 CFR 351.213, and 19 CFR 351.221(b)(5)).

Dated: December 26, 2001.
Richard W. Moreland,
Acting Assistant Secretary for, Import Administration.

[FR Doc. 01-32247 Filed 12-31-01; 8:45 am]

BILLING CODE 3510-DS-P